DEPARTMENT OF LABOR

Employment and Training Administration

[TA-W-80,297]

Steiff North America, Lincoln, RI; Notice of Affirmative Determination Regarding Application for Reconsideration

By application received September 26, 2011, a worker requested administrative reconsideration of the negative determination regarding workers' eligibility to apply for Trade Adjustment Assistance (TAA) applicable to workers and former workers Steiff North America, Lincoln, Rhode Island (Steiff North America). The negative determination was issued on September 13, 2011. The Department's Notice of Determination was published in the Federal Register on October 5, 2011 (76 FR 61743). The workers of Steiff North America, Lincoln, Rhode Island, are engaged in activities related to the supply of distribution and sales of plush toys.

The negative determination was based on the Department's findings that Steiff North America does not produce an article within the meaning of Section 222(a) or Section 222(b) of the Trade Act of 1974, as amended.

In the request for reconsideration, the petitioner asserts that subject firm produces “plush toys, clothing, wooden toys, and other children related items.”

The Department has carefully reviewed the petitioner's request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 5th day of October, 2011.
Del Min Amy Chen,
Certifying Officer, Office of Trade Adjustment Assistance.

[FR Doc. 2011-27163 Filed 10-19-11; 8:45 am]

BILLING CODE 4510-FN-P